DEPARTMENT OF THE INTERIOR

Fish and Wildlife Service

50 CFR Part 17

[FWS-R4-ES-2009-0029]

[92210-1111-0000 B2]

Endangered and Threatened Wildlife and Plants; 90-Day Finding on a Petition to List the Eastern Population of the Gopher Tortoise as Threatened

AGENCY: Fish and Wildlife Service, Interior.

ACTION: Notice of 90-day petition finding; reopening of the information solicitation period.

SUMMARY: We, the U.S. Fish and Wildlife Service (Service), provide clarification of our request for information related to our September 9, 2009, 90-day finding on a petition to list the eastern population of the gopher tortoise (Gopherus polyphemus) as threatened under the Endangered Species Act of 1973, as amended (Act), and initiation of status review. This notice is intended to clarify that all interested parties may continue to submit information and materials on the status of the gopher tortoise throughout its range during the period of the status review. Information previously submitted need not be resubmitted as it has already been incorporated into the public record and will be fully considered in the 12-month finding.

DATES: To allow us adequate time to consider and incorporate submitted information into our review, we request that we receive information on or before March 15, 2010. After this date, the Federal eRulemaking Portal will not accept further information. Although we will accept information submitted after that date, that information should be submitted directly to the Field Office (see FOR FURTHER INFORMATION CONTACT). Please note that while we will make every effort to address or incorporate information in our status review that we receive after March 15, 2010, in order for us to make a timely finding we request submittal of information and comments as soon as possible.

ADDRESSES: You may submit information by one of the following methods:

• Federal eRulemaking Portal: http://www.regulations.gov. Follow the instructions for submitting comments.

• U.S. mail or hand-delivery: Public Comments Processing, Attn: FWS-R4-ES-2009-0029; Division of Policy and Directives Management; U.S. Fish and Wildlife Service; 4401 N. Fairfax Drive, Suite 222; Arlington, VA 22203.

We will post all information we receive on http://www.regulations.gov. This generally means that we will post any personal information you provide us If your hardcopy submission includes personal identifying information, you may request at the top of your document that we withhold this personal identifying information from public review. However, we cannot guarantee that we will be able to do so.

Information and materials we receive, as well as supporting documentation we used in preparing this finding, will be available for public inspection on http://www.regulations.gov, or by appointment during normal business hours, at the Jacksonville Ecological Services Field Office (see FOR FURTHER INFORMATION CONTACT section).

FOR FURTHER INFORMATION CONTACT: Micheal Jennings, U.S. Fish and Wildlife Service, Attn: Gopher Tortoise Review, 7915 Baymeadows Way, Suite 200, Jacksonville, Florida 32256; by telephone (904 731-3336); by facsimile (904 731-3045); or by e-mail: northflorida@fws.gov. Persons who use a telecommunications device for the deaf (TDD) may call the Federal Information Relay Service (FIRS) at 800-877-8339.

SUPPLEMENTARY INFORMATION:

Request for Information

We, the U.S. Fish and Wildlife Service, published a 90-day finding on a petition to list the eastern population of the gopher tortoise (Gopherus polyphemus) as threatened in the Federal Register on September 9, 2009 (74 FR 46401). In that finding, we found that the petition presented substantial scientific or commercial information indicating that listing the eastern population of the gopher tortoise may be warranted. We also initiated a status review to determine if listing the species is warranted, and asked the public to submit information to assist us in our status review. We asked the public to submit information by November 9, 2009, in order for us sufficient time to consider the information in the status review.

Since that time, several interested parties have notified us that they wish to submit additional information relevant to the listing of the eastern population of the gopher tortoise. They have indicated that the information could not be submitted before November 9, 2009, but could be submitted prior to the anticipated completion of the status review in 2010. We have advised these parties individually that we would continue to accept such information after November 9, 2009. However, to ensure that all interested parties have the same opportunity to provide relevant data, this notice clarifies that information to assist us in our review of the status of the gopher tortoise may be submitted to the Federal eRulemaking Portal through the date specified in DATES, and directly to the Field Office thereafter (see DATES and ADDRESSES above). This notice also corrects errors in contact information in the September 9, 2009, notice.

We are continuing to request information on the status of the gopher tortoise throughout its range. We request information from the public, other concerned governmental agencies, Native American Tribes, the scientific community, industry, or any other interested parties concerning the status of the eastern portion of the gopher tortoise's range. We are seeking information regarding:

(1) The species' historical and current status and distribution, its biology and ecology, and ongoing conservation measures for the species and its habitat;

(2) Information relevant to the factors that are the basis for making a listing determination for a species under section 4(a) of the Act, which are:

a) The present or threatened destruction, modification, or curtailment of the species' habitat or range;

b) Overutilization for commercial, recreational, scientific, or educational purposes;

c) Disease or predation;

d) The inadequacy of existing regulatory mechanisms; or

e) Other natural or manmade factors affecting its continued existence and threats to the species or its habitat; and

(3) Information related to the genetics, status, distribution, and threats to the gopher tortoise in the eastern portion of its range.

Please note that submissions merely stating support for or opposition to the action under consideration without providing supporting information, although noted, will not be considered in making a determination, as section 4(b)(1)(A) of the Act (16 U.S.C. 1531 et seq.) directs that determinations as to whether any species is a threatened or endangered species must be made “solely on the basis of the best scientific and commercial data available.” Based on our status review, we will issue a 12-month finding on the petition as provided in section 4(b)(3)(B) of the Act.

Authority

The authority for this action is section 4 of the Endangered Species Act of 1973, as amended (16 U.S.C. 1531 et seq.).

Dated: December 28, 2009.
Robyn Thorson,
Acting Director, U.S. Fish and Wildlife Service.

[FR Doc. 2010-311 Filed 1-11-10; 8:45 am]

BILLING CODE 4310-55-S